DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than September 18, 2000.

Also, interested persons are invited to submit written comments regarding the subject matter of the petitions to the Director of DTAA at the address shown below not later than September 18, 2000.

Petitions filed with the Governors are available for inspection at the Office of the Director, DTAA, ETA, DOL, Room C-4318, 200 Constitution Avenue, NW., Washington, DC 20210.

Signed at Washington, DC this 9th day of August, 2000.
Grant D. Beale,
Program Manager, Division of Trade Adjustment Assistance.

Subject firm | Location | Date received at Governor's office | Petition No. | Articles produced
Hart Mountain Millwoks (Wkrs) | Lakeview, OR | 07/05/2000 | NAFTA-4,009 | Finger joint blacks.
Personal Products (Co.) | Wilmington, IL | 07/05/2000 | NAFTA-4,010 | Sanitary products.
Meritor Automotive (IAMAW) | Fairfield, IA | 05/08/2000 | NAFTA-4,011 | Truck joints.
Marino Technologies (Co.) | Mt. Holly, NJ | 07/05/2000 | NAFTA-4,012 | Industrial textile bags.
AII Technologies (UNITE) | El Paso, TX | 07/07/2000 | NAFTA-4,013 | Computer production.
CRH Catering (Wkrs) | Connellsville, PA | 07/10/2000 | NAFTA-4,014 | Glass containers.
Optimum Air (Wkrs) | Malta, NY | 07/06/2000 | NAFTA-4,015 | Patented dehumidification systems.
ITT Industries (Co.) | Oscoda, MI | 06/03/2000 | NAFTA-4,016 | Fuel & repair fuel lines.
Crown Pacific (Wkrs) | Gilchrist, OR | 07/06/2000 | NAFTA-4,017 | Lumber.
Federal Mogul Wiper Products (Wkrs) | Michigan City, MI | 07/11/2000 | NAFTA-4,018 | Wiper blades.
Reckitt Benckiser (PACE) | Rockwood, MI | 06/22/2000 | NAFTA-4,019 | Soap products.
Thomson Consumer Electronics(Co.) | Dunmore, PA | 07/11/2000 | NAFTA-4,020 | Color television picture tubes.
Cooper Industrial (Co.) | Elk Grove Village, IL | 07/11/2000 | NAFTA-4,021 | Lighting fixtures.
Pharr Yarns (Wkrs) | McAdenville, NC | 07/14/2000 | NAFTA-4,022 | Yarn.
FlexFab Horizons International (IAMAW) | Racine, WI | 07/13/2000 | NAFTA-4,023 | Silcone rubber & plastic components.
Portac (UBC) | Tacoma, WA | 07/14/2000 | NAFTA-4,024 | Lumber.
Kim Mark Hosiery (Co.) | Mount Airy, JC | 07/14/2000 | NAFTA-4,025 | Hosiery products.
Austin Productions (Co.) | Holbrook, NY | 07/18/2000 | NAFTA-4,026 | Sculptural & museum reproductions.
Guess (Wkrs) | Los Angeles, CA | 07/11/2000 | NAFTA-4,027 | Jeans, shirts, skirts etc.
Charles Craft (Co.) | Wadesboro, NC | 07/18/2000 | NAFTA-4,028 | Cotton yans.
Knowles Electronics (Wkrs) | Ltasca, IL | 07/14/2000 | NAFTA-4,029 | Circuits.
C and M (Wkrs) | Wauregan, CT | 07/13/2000 | NAFTA-4,030 | Cables, PSC, mold department.
Occidental Chemical (Co.) | Niagara Falls, NY | 07/19/2000 | NAFTA-4,031 | Chemicals.
Philips Consumer Electronics (Wkrs) | Greeneville, TN | 07/20/2000 | NAFTA-4,032 | Television sets.
Diviersified Enterprises—Habitat (Co.) | Montrose, CO | 07/20/2000 | NAFTA-4,033 | Screenprinted shirts & raw products.
Gynecare (Co.) | Menlo Park, CA | 07/17/2000 | NAFTA-4,034 | Ballon therapy.
Acorn Window Systems (IBM) | Quincy, MI | 07/03/2000 | NAFTA-4,035 | Windows.
Eliance Corporation (Wkrs) | Minot, ND | 07/13/2000 | NAFTA-4,036 | Internet services.
Norton Packaging (USWA) | Oakland, CA | 07/20/2000 | NAFTA-4,037 | Steel pails.
Dana Engine Controls (Wkrs) | Branford, CT | 07/24/2000 | NAFTA-4,038 | Automotive parts.
Abek (Co.) | Bristol, CT | 07/18/2000 | NAFTA-4,039 | Precision steel balls.
VF Workwear (Co.) | Dickson, TN | 07/31/2000 | NAFTA-4,040 | Shirts.
B.F. Goodrich (Co.) | Euless, TX | 07/31/2000 | NAFTA-4,041 | Lending gear.
Joseph Timber (Wkrs) | Joseph, OR | 07/17/2000 | NAFTA-4,042 | Lumber.
Scott Logging (Wkrs) | Bend, OR | 07/27/2000 | NAFTA-4,043 | Logs.
Tri State Data Products (Wkrs) | Feasterville, PA | 07/31/2000 | NAFTA-4,044 | Data products.
ACS Affilated Computer Services (Wkrs) | Berea, KY | 07/25/2000 | NAFTA-4,045 | Insurance claims.
Cross Huller (Wkrs) | Sterling Heights, MI | 07/18/2000 | NAFTA-4,046 | Machine tools.
AII Technologies (Wkrs) | El Paso, TX | 07/25/2000 | NAFTA-4,047 | Computers products.
Pietrafesa Corp. (The) (Wkrs) | Liverpool, NY | 08/02/2000 | NAFTA-4,048 | Coats, pants, vests & suits.
AES Interconnects (Wkrs) | San Bonito, TX | 08/02/2000 | NAFTA-4,049 | Wire harness.
Prestolite Wire (Co.) | Bristol, TN | 07/22/2000 | NAFTA-4,050 | Batter cables.
Boise Cascade (WCIW) | Independence, OR | 08/01/2000 | NAFTA-4,051 | Green yeneer.
Chief Tonasket Growers (Wkrs) | Tonasket, WA | 07/31/2000 | NAFTA-4,052 | Packing apples.
Ochoco Lumber (Co.) | Pineville, OR | 07/28/2000 | NAFTA-4,053 | Lumber.
Victor Equipment (Co.) | Abilene, TX | 08/04/2000 | NAFTA-4,054 | Cutting & Welding Equipment.
Melvin Quilting (Co.) | Rocky Mountain, NC | 08/03/2000 | NAFTA-4,055 | Decorative pillows.
Arrow Internation (Co.) | Woburn, MA | 08/03/2000 | NAFTA-4,056 | Medical devices.
Premair Leathers (Wkrs) | Salem, MA | 08/04/2000 | NAFTA-4,057 | Leather split.
Cloverland (Co.) | Escanaba, MI | 07/24/2000 | NAFTA-4,058 | Rebuilt automotive engines.
Beaulieu of America (Co.) | Anadarko, OK | 07/06/2000 | NAFTA-4,059 | Carpet.
Reliable Exploration (Co.) | Billings, MT | 08/07/2000 | NAFTA-4,060 | Oil and gas.

[FR Doc. 00-22759 Filed 9-5-00; 8:45 am]

BILLING CODE 4510-30-M